DEPARTMENT OF COMMERCE

National Oceanic and Atmospheric Administration

[Docket No. 010813205-1205-01]

RIN 0648-XA74

NOAA Ocean Exploration Initiative

AGENCY: Office of Ocean Exploration, National Oceanic and Atmospheric Administration (NOAA), Commerce.

ACTION: Notice.

SUMMARY: In June 2000, a U.S. panel of ocean scientists, explorers, and educators convened to create a National Strategy for Ocean Exploration. Their final report, “Discovering Earth's final Frontier: A U.S. Strategy for Ocean Exploration”, is a plan to undertake new activities in ocean exploration. NOAA is embarking on this new strategy through its Ocean Exploration Program, and desires to partner with public, private, and academic ocean exploration programs outside of NOAA.

The purpose of this notice is to advise the public, academic institutions, and private sector and government entities that the NOAA Office of Ocean Exploration (OE) is soliciting proposals in support of its mission to expand knowledge of the ocean's physical, chemical and biological environments, processes, characteristics, and resources by means of interdisciplinary expeditious to unknown, or poorly known, regions and through innovative experiments.

DATES: Proposals must be submitted to the Office of Ocean Exploration no later than 1 p.m. EST on November 7, 2001. Applications received after that time will not be considered for funding. Facsimile applications will not be accepted.

ADDRESSES: Send proposals to Katherine Croff, NOAA, Office of Ocean Exploration, Bldg. SSMC3, 11th Floor, 1315 East West Highway, Silver Spring, MD 20910 or via email to: oar.oe.submissions@noaa.gov.

FOR FURTHER INFORMATION CONTACT: For further information, applicants and other interested parties are encouraged to contact the Office by phone at 301-713-9444 x-139 or via email at oar.oe.fag@noaa.gov or by letter (see ADDRESSES). A copy of this notice, as well as ancillary information, will be posted on the OE Program webpage which can be found at: http://oceanexplorer.noaa.gov.

SUPPLEMENTARY INFORMATION:

I. Program Authority

Authority: 33 U.S.C. 883d.

Catalog of Federal Domestic Assistance Number: 11.460

II. Program Description

A. Mission and Background

The OE Program's mission is to search and investigate the oceans for the purpose of discovery and the advancement of knowledge of the ocean's physical, chemical and biological environments, processes, characteristics, and resources by means of interdisciplinary expeditious to unknown, or poorly known, regions and through innovative experiments. The Program advocates discovery-based science and collaboration between multiple partners and disciplines. Education and outreach are also important OE Program components.

NOAA's OE Program is viewed as a component of an envisioned larger National Ocean Exploration Program which is described in Discovering Earth's Final Frontier: A U.S. Strategy for Ocean Exploration http://oceanpanel.nos.noaa.gov. As envisioned, it would seek to bring the best of our Nation's ocean scientists to ocean science and technological frontiers for the purposes of discovering more about life in the oceans, discovering new oceans processes, learning more about maritime cultural resources and heritage, and prospecting for biological and mineral resources. The NOAA OE Program will thereby support NOAA's role as the Nation's agency for ocean stewardship.

In order to facilitate pathfinding oceanic research and technology development, the OE Program will invest in well-justified projects that will expand our knowledge of the ocean's physical, chemical and biological environments as well as its processes, characteristics, and resources. The OE Program will achieve these goals, in part, by means of interdisciplinary expeditions to unknown, or poorly known, regions and by means of innovative experiments. The Program also will seek to expand the Nation's maritime cultural heritage through support of ocean archeological expeditions.

A major commitment will be devoted to data dissemination and timely communication of the Program's achievements to a broad audience. Participants in the program are anticipated to include the public, private entities, and academic scientists.

B. Notice Objectives

The purpose of this announcement is to invite the submission of research proposals to explore and discover fundamental, new knowledge about the ocean and the organisms that live within it, to pursue the advancement of ocean technology and to develop teaching tools and innovative means for disseminating results and data.

C. Research Proposal Focus

Proposals should address pathfinding research within the themes and regions listed below. Research within areas of U.S. legal jurisdiction is encouraged.

Generalized thematic focuses for Ocean Exploration proposals include: (1) Exploring unknown or poorly known ocean regions; (2) exploring ocean dynamics and interactions at new time scales; (3) developing new sensors and systems; (4) exploring the Nation's maritime heritage; (5) exploring the ocean using remote sensing techniques, especially passive acoustics; and (6) exploring for living and nonliving ocean resources.

Areas of geographic interest include (but are not necessarily limited to) the: (1) Eastern Pacific (from the Baja peninsula to the Bering Sea and including the Gulf of Alaska); (2) Northwest Hawaiian Islands; (3) Arctic; (4) Antarctic; (5) Gulf of Mexico; (6) Gulf of Maine; (7) South Atlantic Bight.

The scope of proposals is left to the proposer's discretion, e.g., a proposal may be for a specific task or a large-scale, multi-institutional interdisciplinary expedition. Proposals may include costs for ship time and other facilities, including ROVs, etc.

All funded Principal Investigators (PIs) will be required to cooperate with the OE Program staff in facilitating education and outreach activities, which are major priorities for the program. These activities may entail such things as accommodation of a teacher/educator-at-sea or at-sea media participation. Proposals should specifically address these priorities.

NOAA's Ocean Explorer website (http://oceanexplorer.noaa.gov) is the principle vehicle for chronicling and documenting missions supported by the OE Program. PIs and mission participants will be required to provide materials for this site. Mechanisms to do this, e.g., coordination with the NOAA Ocean Explorer website team (see Ancillary Information at: http://oceanexplorer.noaa.gov), should be described in the proposal, and costs for accomplishing this goal should be included in the budget.

PIs must also be willing to cooperate with OE to ensure that data acquired through their grants are compatible with the OE data/information system currently under development. All funded proposals will be required to provide OE with metadata (via the Internet) pertaining to all research data sets within 90 days of their collection. In keeping with OE's education and outreach goals, the Internet databases also should be friendly to users from a wide spectrum of abilities and backgrounds. Because of the anticipated wide diversity in kinds of data to be acquired, dates for access to specific datasets (by the OE Program, relevant data repositories, and other requesters) will be individually established prior to each proposal award.

III. Funding Availability

This solicitation announces that approximately $14M may be available in FY 2002, in award amounts to be determined by the proposals and available funds. Applicants are hereby given notice that funds have not yet been appropriated for this program.

There is no guarantee that sufficient funds will be available to make awards for all qualified projects. Publication of this notice does not oblige NOAA to award any specific project or to obligate any available funds. If one incurs any costs prior to receiving an award agreement signed by an authorized NOAA official, one would do so solely at one's own risk of these costs not being included under the award. Notwithstanding any verbal or written assurance that one may have received, pre-award costs are not allowed under the award unless the Grants Officer approves them in accordance with 15 C.F.R. 14.28.

IV. Matching Requirements

Applications must reflect the total budget necessary to accomplish the project, including contributions and/or donations. However, applicants are not required to seek matching funds to qualify for this award. If an applicant chooses to cost-share, and if that application is selected for funding, the applicant will be bound by the percentage of the cost-share reflected in the award.

V. Type of Funding Instrument

The type of a funding instrument (either grant or cooperative agreement) that NOAA will use will be determined by the NOAA Grants Office in consultation with the NOAA OE Program Office. Mechanism for actual transfer of funds will depend on the specific agency or institution and its relationship to NOAA. Note: Grants or cooperative agreements will not be used in the case of funding for other Federal agencies. Such agencies will be funded through an inter-agency transfer (see Section IX for additional information).

IV. Duration of Funding and Award Period

Proposals may request funding for up to three years. Funding in out-years will be contingent on successful accomplishment of prior-year objectives and the level of the program's overall funding. A year-end report of accomplishments will be required for multi-year proposals.

VII. Eligibility

Institutions of higher education, nonprofit organizations, commercial organizations, foreign governments, organizations under the jurisdiction of foreign governments, international organizations, state, local and Indian tribal governments, and Federal agencies are eligible to apply and be awarded funds. Note: Before other Federal applicants may be funded, they must demonstrate that they have legal authority to receive funds for the purpose of this program in excess of their appropriation; see Section IX for more details on this point. Because this announcement is not proposing to procure goods or services from applicants, the Economy Act (31 U.S.C. 1535) is not an appropriate legal basis.

VIII. Project Funding Considerations

NOAA encourages proposals that are interdisciplinary and involve legitimate collaborations with more than one institution or agency.

IX. Application Forms and Format

All applications must include the forms listed in section IX(A) and a proposal that conforms to the specifications in section IX(B). For other federal agencies wishing to apply, please contact the OE Program Director at 301-713-9444 or via email at oar.oe.fag@noaa.gov prior to the development of any research proposals to discuss the legal authority for receiving these funds.

A. Forms

Standard Forms 424, Application for Federal Assistance, 424A, Budget Information-Non-Construction Programs, 424B, Assurances-Non-Construction Programs, SF-LLL, Disclosure of Lobbying Activities (Rev. 7-97) (if applicable); DOC forms, CD-346, Applicant for Funding Assistance, CD-511, Certifications Regarding Debarment, Suspension and Other Responsibility Matters: Drug-Free Workplace Requirements and Lobbying, and CD-512, Certifications Regarding Debarment, Suspension, Ineligibility and Voluntary Exclusion-Lower Tier Covered Transactions and Lobbying shall be used in applying for financial assistance. All necessary forms may be obtained via the OE Internet site (see: OE Application Kit) at http://oceanexplorer.noaa.gov. For hard copies, see ADDESSES and/or FOR FURTHER INFORMATION.

B. Proposal Format

The proposal should be self-contained. The proposal must clearly delineate each partner's efforts and the associated requests for OE funds, as well as any cost-sharing. The same proposal will be used to implement funding of all partners in the proposed effort, if selected. Thus, separate budgets within the single proposal will be required if more than one funding action is needed..

All proposals/applications must include the following: (a) Completed cover page; (b) a maximum half-page executive summary; (c) a maximum 20-page description of the entire project (including collaborations, period of performance, and work plan); (d) budget narrative (including proper budget justification for non-standard items); (e) a summary of relevant current funding support; (f) a short Principal Investigator resume, including recent relevant publication references,and (g) all government forms required for submission.

The entire package must make 40 pages or less. Proposals must be stapled or bound in the uppermost left-hand corner. Margins should be one inch on all four sides and the font size should be at least 10 point. A copy of the proposal on floppy diskette or Zip disk in Adobe Acrobat PDF or Microsoft Word format is requested, but not required.

X. Proposal/Application Submission Procedure

Investigators/applicants may submit hard copies or electronic copies (via email) of their proposals. Applicants submitting hard copies must submit three hard copies of the proposal. While extra copies are not required, submission of an extra twelve copies will expedite the review process. Although electronic submissions are welcomed, the forms, identified in Section IX(A), must be submitted in hard copy with original signatures in conjunction with any electronic submissions by the closing date/time. Three original copies of the forms, identified in section IX(A), are needed. Failure to submit the required forms may result in a proposal being rejected. Please send electronic submissions to the following email address: oar.oe.submissions@noaa.gov. For further information, see Announcement of Opportunity: Application Kit at http://oceanexplorer.noaa.gov/ or see ADDRESSES and/or FOR FURTHER INFORMATION.

XI. Evaluation Criteria

Each proposal should take into consideration all of the following criteria. Listed in order of importance, these criteria will be used by independent peer mail reviewers and an independent peer review panel to assist in their evaluations of proposals submitted to the OE Program:

Scientific and Technical Merit

The scientific and/or technical context and value of the work proposed, and the probability of success.

Relevance of the Proposal to OE Program Objectives

The capacity for the proposal to address and support Ocean Exploration's missions and objectives (see: Section II., Parts A, B, and C).

Usability of Results

The anticipated or potential scientific and/or technical importance of project results.

Other Requirements

All proposals must provide sufficient information to demonstrate the applicant's scientific and/or technical capability to successfully undertake the proposed work. All proposals must also provide a complete and detailed budget, which includes supporting narratives for unusual and/or unusually costly items.

The proposals will be judged, in accordance with these evaluation criteria, on a adjectival scale ranging in order of decreasing merit, as follows:

Excellent: Comprehensive, thorough and of exceptional merit, one or more major strengths, no major weaknesses, and any minor weaknesses easily correctable.

Very Good: Competent, one or more major strengths, strengths outweigh weaknesses, and major weaknesses correctable.

Good: Reasonable, may be strengths and/or weaknesses, weaknesses do not significantly detract from the proposal's viability, any major weaknesses are correctable.

Fair: One or more major weaknesses, weaknesses outweigh strengths, major weaknesses may possibly be corrected or minimized.

Poor: One or more major weaknesses which will be difficult to correct or may not be correctable.

XII. Selection Process

Proposals will be evaluated by an independent peer mail review, i.e., each proposal will be reviewed, by three qualified scientific and/or technical peers drawn from government, academia, and/or industry (working independently). These reviewers will be required to certify that they do not have a conflict of interest and that they will maintain confidentiality concerning the application(s) they are reviewing. The peer reviewers will (1) assign adjectival ratings to each proposal based on the evaluation criteria described in section XI, and (2) compose written assessments.

Proposals and the accompanying written mail reviews will be sent to OE, who will make them available to the peer review panel. Panel members may include relevant NOAA and non-NOAA experts. As a group, the panel members will discuss the scientific merits of each proposal and the contents of the written assessments composed during the peer mail reviews process. After the discussion, each peer review panel member will individually rate each proposal using the evaluation criteria listed in this announcement. There will be no consensus advice or evaluation.

Following the panel meeting, the proposals, the written reviews, and ratings of each panelist then will be sent to the OE Program's Chief Scientist. The Chief Scientist will compile the individual ratings for each proposal, and, after taking into account the extent to which the proposals meet OE's funding considerations, will group all of the proposals into the following fundable categories: Highest Priority For Funding, Merits Funding, or Decline.

The Director of the NOAA OE Program will have the final authority and responsibility for decisions regarding proposal acceptance or rejection. The Director, in making his/her final decisions, will consider: (1) Individual peer reviews, (2) the peer review panel evaluations, ratings and Chief Scientist groupings; (3) the avoidance of duplication with other projects funded by NOAA or other Federal Agencies; (4) the extent to which the proposals meet the funding considerations in Section VIII; and (5) availability of funding. Therefore, the highest proposal rating may not ultimately determine funding. Investigators may be asked to modify objectives, work plans, or budgets prior to approval of the award. Subsequent administrative processing will be in accordance with current NOAA grants procedures.

XIII. Other NOAA Affiliations

Other NOAA agencies and programs also have mission objectives which involve ocean research and technology development. Examples include, the National Undersea Research Program, the National Sea Grant College Program, the Office of Oceanic and Atmospheric Research Office's Arctic Research Office, NMFS and the National Ocean Service. The OE Program anticipates and encourages collaborative efforts between itself and these agencies and programs. Investigators who wish to work with the OE Program through any of these other entities should contact them directly. Prospective collaborative projects facilitated by these other programs will be subject to the OE Program's proposal review and decision-making process. For additional details about these other programs, see: http://oceanexplorer.noaa.gov.

XIV. Federal Policies and Procedures Applicable to OE

A. Environmental Impact

If a proposed project might have an environmental impact, the proposal should furnish sufficient information to assist proposal reviewers in assessing the environmental consequences of supporting the project.

B. ESA/MMPA Permits and Authorizations

Where relevant, proposals with the potential to impact marine mammals and/or other protected species must comply with the Marine Mammal Protection Act of 1972 (MMPA), (16 U.S.C. 1361-1421h) and the Endangered Species Act of 1973 (ESA), (16 U.S.C. 1531-1544).

For further information about permits, authorizations or viewing marine mammals and other protected species in the wild please visit the following NMFS websites:

http://www.nmfs.noaa.gov/prot res/overview/permits.html

http://www.nmfs.noaa.gov/prot res/MMWatch/MMViewing.html.

XV. Other Requirements

A. Federal Policies and Procedures

Recipients and subrecipients are subject to all Federal laws and Federal and DOC policies, regulations and procedures applicable to Federal financial assistance awards. Women and minority individuals and groups are encouraged to submit applications under this program.

DOC/NOAA is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the Nation's capacity to provide high-quality education, and to increase opportunities for MSIs to participate in and benefit from Federal Assistance programs. DOC/NOAA encourages all applicants to include meaningful participation of MSIs.

B. Past Performance

Any first-time applicant for Federal grant funds is subject to a pre-award accounting survey prior to execution of the award. Unsatisfactory performance under prior Federal awards may result in an application not being considered for funding.

C. Pre-Award Activities

If applicants incur any costs prior to an award being made, they do so solely at their own risk of not being reimbursed by the Government. Notwithstanding any verbal or written assurance that they may have received, there is no obligation on the part of DOC to cover pre-award costs.

D. No Obligation of Future Funding

If an application is selected for funding, DOC has no obligation to provide any additional future funding in connection with the award. Renewal of an award to increase funding or extend the period of performance is at the total discretion of DOC.

E. Delinquent Federal Debt

No Federal funds will be awarded to an applicant or to its subrecipients who have any outstanding debt until either:

1. The delinquent account is paid in full;

2. A negotiated repayment schedule is established and at least one payment is received; or

3. Other arrangements satisfactory to DOC are made.

F. Name Check Review

All non-profit and for-profit applicants are subject to a name-check review process. Name checks are intended to reveal if any key individuals associated with the applicant have been convicted of or are presently facing criminal charges such as fraud, theft, perjury, or other matters which significantly reflect on the applicant's management honesty or financial integrity.

G. False Statements

A false statement on an application is grounds for denial or termination of funds and grounds for possible punishment by a fine or imprisonment as provided in 18 U.S.C. 1001.

H. Primary Applicant Certifications

All primary applicants must submit a completed Form CD-511, “Certifications Regarding Debarment, Suspension and Other Responsibility Matters; Drug-Free Workplace Requirements and Lobbying,” and the following explanations are hereby provided.

1. Nonprocurement Debarment and Suspension. Prospective participants (as defined at 15 CFR Part 26, Section 105) are subject to 15 CFR Part 26, “Nonprocurement Debarment and Suspension” and the related section of the certification form prescribed above applies;

2. Drug-Free Workplace. Grantees (as defined at 15 CFR Part 26, Section 605) are subject to 15 CFR Part 26, Subpart F, “Governmentwide Requirements for Drug-Free Workplace (Grants)” and the related section of the certification form prescribed above applies;

3. Anti-Lobbying. Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more then $150,000, or the single family maximum mortgage limit for affected programs, whichever is greater; and

4. Anti-Lobbying Disclosures. Any applicant that has paid or will pay for lobbying using any funds must submit an SF-LLL “Disclosure of Lobbying Activities,” as required under 15 CFR Part 28, Appendix B.

I. Lower Tier Certifications

Recipients shall require applicants/bidders for subgrants, contracts, subcontracts, or other lower tier covered transactions at any tier under the award to submit, if applicable, a completed Form CD-512. “Certifications Regarding Debarment, Suspension, Ineligibility and Voluntary Exclusion-Lower Tier Covered Transactions and Lobbying” and disclosure form, SF-LLL, “Disclosure of Lobbying Activities.” Form CD-512 is intended for the use of recipients and should not be transmitted to DOC. SF-LLL submitted by any tier recipient or subrecipient should be submitted to DOC in accordance with the instructions contained in the award document.

J. Intergovernmental Review

Applicants under this program are subject to Executive Order 12372, “Intergovernmental Review of Federal Programs.”

K. Purchase of American-Made Equipment and Products

Applicants are hereby notified that they will be encouraged to the greatest extent practicable, to purchase American-made equipment and products with funding provided under this program.

Classification

Prior notice and an opportunity for public comments are not required by the Administration Procedure Act (5 U.S.C. 553(a)(2)) or any other law for this notice concerning grants, benefits, and contracts.

Therefore, a regulatory flexibility analysis is not required for purposes of the Regulatory Flexibility Act (5 U.S.C. § 601 et. seq.)

This action has been determined to be not significant for purposes of Executive Order 12866.

This notice contains collection-of-information requirements which are subject to the Paperwork Reduction Act. The use of Standard Forms 424, 424A, 424B, SF-LLL and CD-346 have been approved by OMB under the respective control numbers 0348-0043, 0348-0044, 0348-0040, 0348-0046, and 0605-0001. Notwithstanding any other provision of law, no person is required to respond to, nor shall any person be subject to a penalty for failure to comply with, a collection of information subject to the Paperwork Reduction Act, unless that collection of information displays a currently valid OMB control number.

Dated: August 29, 2001.
Louisa Koch,
Deputy Assistant Administrator, Office of Oceanic and Atmospheric Research, National Oceanic and Atmospheric Administration.

[FR Doc. 01-22142 Filed 8-31-01; 8:45 am]

BILLING CODE 3510-KD-M